BUREAU OF CONSUMER FINANCIAL PROTECTION

[Docket No. CFPB-2019-0003]

Agency Information Collection Activities: Submission for OMB Review; Comment Request

AGENCY: Bureau of Consumer Financial Protection.

ACTION: Notice and request for comment.

SUMMARY: In accordance with the Paperwork Reduction Act of 1995 (PRA), the Bureau of Consumer Financial Protection (Bureau) is proposing a new information collection, titled, “Debt Collection Quantitative Disclosure Testing.”

DATES: Written comments are encouraged and must be received on or before March 6, 2019 to be assured of consideration.

ADDRESSES: You may submit comments, identified by the title of the information collection, OMB Control Number (see below), and docket number (see above), by any of the following methods:

• Electronic: http://www.regulations.gov. Follow the instructions for submitting comments.

• OMB: Office of Management and Budget (OMB), New Executive Office Building, Room 10235, Washington, DC 20503 or fax to (202) 395-5806. Mailed or faxed comments to OMB should be to the attention of the OMB Desk Officer for the Bureau of Consumer Financial Protection.

Please note that comments submitted after the comment period will not be accepted. In general, all comments received will become public records, including any personal information provided. Sensitive personal information, such as account numbers or Social Security numbers, should not be included.

FOR FURTHER INFORMATION CONTACT: Documentation prepared in support of this information collection request is available at www.reginfo.gov (this link becomes active on the day following publication of this notice). Select “Information Collection Review,” under “Currently under review, use the dropdown menu “Select Agency” and select “Consumer Financial Protection Bureau” (recent submissions to OMB will be at the top of the list). The same documentation is also available at http://www.regulations.gov. Requests for additional information should be directed to Darrin King, PRA Officer, at (202) 435-9575, or email: CFPB_PRA@cfpb.gov. Please do not submit comments to this email box.

SUPPLEMENTARY INFORMATION:

Title of Collection: Debt Collection Quantitative Disclosure Testing.

OMB Control Number: 3170-XXXX.

Type of Review: New Collection (Request for a New OMB Control Number).

Affected Public: Individuals.

Estimated Number of Respondents: 17,750 (includes screener and survey).

Estimated Total Annual Burden Hours: 3,555.

Abstract: The Dodd-Frank Wall Street Reform and Consumer Protection Act (Pub. L. 111-203) and other Federal consumer financial laws authorize the Bureau to engage in consumer protection rule writing. The Bureau relies on empirical evidence and rigorous research to improve its understanding of consumer financial markets for regulatory purposes. This PRA clearance seeks approval from OMB to conduct a web survey of 8,000 individuals as part of the Bureau's research on debt collection disclosures.

The survey will explore consumer comprehension and decision making in response to debt collection disclosure forms. The survey will oversample respondents who have had experience with debt collection in the past.

Request for Comments: The Bureau issued a 60-day Federal Register notice on June 5, 2017, 82 FR 25779, Docket Number: CFPB-2017-0013. Further, the Bureau published a 30-day Federal Register notice on 11/14/2017, 82 FR 52712, Docket No. CFPB-2017-0038. This request was then withdrawn by the Bureau after submission to OMB, therefore we are now re-publishing a thirty day notice for this collection and re-submitting it to OMB. Comments were solicited and continue to be invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Dated: January 29, 2019.
Darrin A. King,
Paperwork Reduction Act Officer, Bureau of Consumer Financial Protection.

[FR Doc. 2019-00905 Filed 2-1-19; 8:45 am]

BILLING CODE 4810-AM-P